DEPARTMENT OF TRANSPORTATION

Federal Highway Administration

Environmental Impact Statement: Route 9 Dover/Lakewood Project, Ocean County, NJ

AGENCY: Federal Highway Administration (FHWA), USDOT.

ACTION: Notice of intent.

SUMMARY: The FHWA and New Jersey Department of Transportation (NJDOT) are issuing this notice to advise the public that an environmental impact statement (EIS) will be prepared for the proposed widening of Route 9 to four lanes between Indian Head Road in Dover Township and Main Street in Lakewood Township in Ocean County, New Jersey. The four lanes would be separated by a grass median that would provide left-turn lanes at major intersections.

FOR FURTHER INFORMATION CONTACT: If you wish to be placed on the mailing list to receive further information as the study develops, contact Mr. Young Kim at Federal Highway Administration, 840 Bear Tavern Road, Suite 310, West Trenton, NJ 08628, Telephone: (609) 637-4233 or Mr. Steve Mikulak at New Jersey Department of Transportation, 1035 Parkway Avenue, P.O. Box 600, Trenton, NJ 08625-0600, Telephone: (609) 530-6558.

SUPPLEMENTARY INFORMATION:

I. Project Need and Description

Route 9 through Dover and Lakewood is a two-lane signalized roadway with a high volume of vehicles throughout the day, and especially during the morning and evening commuting hours, and the summer. This large vehicular volume, combined with left turning vehicles, and narrow shoulders results in poor levels of service for multiple hours of the day. This proposed project was developed to improve the operation, safety and level of service along this corridor.

The Township of Dover in 1999 and Township of Lakewood in 2000 each approved Resolutions of Support for the four lanes with grass median and left turn lanes concept. This concept will be studied under, at least, three alternatives: Left turn lane scheme with expansion to the east side of Route 9; Left turn lane scheme with expansion to the west side of Route 9; and, Left turn lane scheme that would “snake” the expansion between the east and west sides of Route 9. A fourth scheme that would be analyzed is the provision of jug-handles instead of left-turn lanes at select locations. The Draft EIS will document the analysis and elimination of alternatives, and only viable, constructible alternatives will be carried through the environmental analysis phase.

II. Scoping

The FHWA and NJDOT invite all interested individuals and organizations, and federal, state, and local agencies to provide comments on the scope of the study. During the scoping process, comments should focus on identifying specific social, economic, or environmental issues to be evaluated and suggesting alternatives, which may be less costly or have less environmental impacts, while achieving the similar transportation objectives. Comments should focus on the issues and alternatives for analysis and not on a preference for a particular alternative.

A public hearing will be held after publication of the Draft Environmental Impact Statement (DEIS) to obtain comments on the document. Public notice will be given of the time and place of the DEIS public hearing.

Scoping Meeting: Public scoping meetings for the Route 9 Dover/Lakewood EIS will be held on: Wednesday, September 18, 2002, 3 p.m. to 7 p.m., Lakewood Municipal Building, 231 Third Street, Lakewood, NJ 08701; and Wednesday, September 25, 2002, 3 p.m. to 7 p.m., Dover Township Municipal Complex, 33 Washington Street, Toms River, NJ 08753.

People with special needs should contact Mr. Steve Mikulak at NJDOT (a sign language interpreter will be made available upon request). The buildings are accessible to people with disabilities.

Oral and written comments may be given at the scoping meetings; a stenographer will record all comments.

Comment Due Date: Written comments on the scope of the EIS should be sent to Mr. Young Kim with FHWA by October 16, 2002 at the address above.

(Catalog of Federal Domestic Assistance Program Number 20.205. Highway Planning and Construction. The regulations implementing Executive Order 12372 regarding intergovernmental consultation on Federal programs and activities apply to this program.)

Issued on: July 18, 2002.
Young Kim,
Area Engineer, FHWA—New Jersey Division, Trenton.

[FR Doc. 02-19024 Filed 7-25-02; 8:45 am]

BILLING CODE 4910-22-M